NATIONAL FOUNDATION ON THE ARTS AND HUMANITIES

Cooperative Agreement for Continued Management of ArtsLink

AGENCY: National Endowment for the Arts.

ACTION: Notification of availability.

SUMMARY: The National Endowment for the Arts is requesting proposals leading to one (1) award of a Cooperative Agreement to a nonprofit organization for continued management of ArtsLink. ArtsLink is a public-private partnership that offers opportunities for artistic exchange between the United States and the countries of Eastern and Central Europe and the former Soviet Union. The project awards grants to U.S. artists and arts organizations, and supports residencies. The work includes managing all phases of proposal review, artists and residency placements, and the financial award process, including the management of logistical arrangements for residencies, in regard to participants' arrival, lodging, and transfer to host organization locations. The successful recipient of the Cooperative Agreement will be expected to contribute matching funds of at least $75,000. Those interested in receiving the Solicitation package should reference Program Solicitation PS 00-07 in their written request and include two (2) self-addressed labels. Verbal requests for the Solicitation will not be honored. It is anticipated that the Program Solicitation will also be posted on the Endowment's Web site at http://www.arts.gov.

DATES: Program Solicitation PS 00-07 is scheduled for release approximately July 17, 2000 with proposals due on August 17, 2000.

ADDRESSES: Requests for the Solicitation should be addressed to the National Endowment for the Arts, Grants & Contracts Office, Room 618, 1100 Pennsylvania Ave., NW, Washington, D.C. 20506.

FOR FURTHER INFORMATION CONTACT: William Hummel, Grants & Contracts Office, National Endowment for the Arts, Room 618, 1100 Pennsylvania Ave., NW, Washington, D.C. 20506 (202/682-5482).

William I. Hummel,
Coordinator, Cooperative Agreements.

[FR Doc. 00-16487 Filed 6-28-00; 8:45 am]

BILLING CODE 7537-01-M